DEPARTMENT OF LABOR

Occupational Safety and Health Administration

[Docket No. ICR-1218-0237(2000)]

Standard on Additional Requirements for Special Dipping and Coating Operations; Extension of the Office of Management and Budget's (OMB) Approval of an Information Collection (Paperwork) Request

AGENCY: Occupational Safety and Health Administration (OSHA), Labor.

ACTION: Notice of an opportunity for public comment.

SUMMARY: OSHA solicits comments concerning the proposed extension of the information collection requirement contained in paragraph (g)(4) of the standard on Additional Requirements for Special Dipping and Coating Operations, 29 CFR 1910.126.

Request for Comment: The Agency seeks comments on the following issues:

• Whether the information collection requirement is necessary for the proper performance of the Agency's functions, including whether the information is useful;

• The accuracy of the Agency's estimate of the burden (time and costs) of the information collection requirement, including the validity of the methodology and assumptions used;

• The quality, utility, and clarity of the information collected; and

• Ways to minimize the burden on employers who must comply; for example, by using automated or other technological information transmission and collection techniques.

DATES: Submit written comments on or before January 30, 2001.

ADDRESSES: Submit written comments to the OSHA Docket Office, Docket No. ICR-1218-0237(2000), Occupational Safety and Health Administration, U.S. Department of Labor, Room N-2625, 200 Constitution Avenue, NW., Washington, DC 20210; telephone: (202) 693-2350. Commenters may transmit written comments of 10 pages or less in length by facsimile to (202) 693-1648.

FOR FURTHER INFORMATION CONTACT: Theda Kenney, Directorate of Safety Standards Programs, Occupational Safety and Health Administration, U.S. Department of Labor, Room N-3609, 200 Constitution Avenue, NW., Washington, DC 20210; telephone: (202) 693-2222. A copy of the Agency's Information collection Request (ICR) supporting the need for the information collection requirement contained in the standard is available for inspection and copying in the Docket Office, or mailed on request by telephoning Theda Kenney at (202) 693-2222 or Barbara Bielaski at (202) 693-2444. For electronic copies of the ICR, contact OSHA on the Internet at http://www.osha.gov/comp-links.html, and click on “Information collection Requests.”

SUPPLEMENTARY INFORMATION:

I. Background

The Department of Labor, as part of its continuing effort to reduce paperwork and respondent burden, conducts a preclearance consultation program to provide the general public and government agencies with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents. (29 U.S.C. 657.)

Paragraph (g)(4) of the standard on Additional Requirements for Special Dipping and Coating Operations, 29 CFR 1910.126, requires employers to post a conspicuous sign near each piece of electrostatic-detearing equipment that notifies employees of the minimum safe distance they must maintain between goods undergoing electrostatic detearing and the electrodes or conductors of the equipment used in the process. Doing so reduces the likelihood of igniting the explosive chemicals used in electrostatic-detearing operations.

II. Proposed Actions

OSHA proposes to retain its earlier estimate of zero burden hours for the information collection requirement specified by 29 CFR 1910.126(g)(4). Based on past discussions with organizations dealing with dip tanks, OSHA determined that employers affected by this provision previously collected the necessary information and provided the required signs for the 12 or fewer pieces of this equipment still in use.¹ Therefore, assuming that the signs are permanent fixtures that will remain indefinitely with each piece of equipment, the Agency concludes that this paperwork requirement currently imposes no burden hours or cost on the employers who operate this equipment. OSHA will summarize the comments submitted in response to this notice, and will include this summary in the request to OMB to extend the approval of this information collection requirement.

¹ These discussions indicate that employers are replacing electrostatic-detearing equipment with newer technology; therefore, no need exists for additional signs.

Type of Review: Extension of currently approved information collection requirement.

Title: Additional Requirements for Special Dipping and Coating Operations. (29 CFR 1910.126).

OMB Number: 1218-0237.

Affected Public: Business or other for-profit; not-for-profit institutions; Federal government; state, local or tribal governments.

Number of Respondents: 0.

Frequency: Continuous.

Average Time per Response: 0.

Estimated Total Burden Hours: 0.

III. Authority and Signature

Charles N. Jeffress, Assistant Secretary of Labor for Occupational Safety and Health, directed the preparation of this notice. The authority for this notice is the Paperwork Reduction Act of 1995 (44 U.S.C. 3506), Secretary of Labor's Order No. 3-2000 (65 FR 50017).

Signed at Washington, DC, on November 21, 2000.
Charles N. Jeffress,
Assistant Secretary of Labor.

[FR Doc. 00-30645 Filed 11-30-00; 8:45 am]

BILLING CODE 4510-26-P